DEPARTMENT OF EDUCATION

[CFDA No.: 84.133B]

Office of Special Education and Rehabilitative Services, National Institute on Disability and Rehabilitation Research- Rehabilitation Research and Training Centers (RRTC) Program; Notice Inviting Applications for Fiscal Year (FY) 2003

Correction

In notice document 02-22278 beginning on page 56141 in the issue of Friday, August 30, 2002, make the following corrections:

1. On page 56141, in the table, in the column “Deadline for transmittal of applications”, in the first entry, “September 30, 2002” should read “October 29, 2002”.

2. On the same page, in the same table, in the same column, in the second entry, “September 30, 2002” should read “October 29, 2002”.

[FR Doc. C2-22278 Filed 9-13-02; 8:45 am]

BILLING CODE 1505-01-D

DEPARTMENT OF VETERANS AFFAIRS

38 CFR Part 4

RIN 2900-AF00

Schedule for Rating Disabilities; the Skin

Correction

In rule document 02-19331 beginning on page 49590 in the issue of Wednesday, July 31, 2002 make the following correction:

§4.118 [Corrected]

1. On page 49596, the Rate Schedule for 7802 is corrected to read as follows:

| Rating
7802 Scars, other than head, face, or neck, that are superficial and that do not cause limited motion:
Area or areas of 144 square inches (929 sq. cm.) or greater | 10
Note (1): Scars in widely separated areas, as on two or more extremities or on anterior and posterior surfaces of extremities or trunk, will be separately rated and combined in accordance with § 4.25 of this part.
Note (2): A superficial scar is one not associated with underlying soft tissue damage.

2. On the same page, the Rate Schedule for 7807, 7808 and 7809 is corrected to read as follows:

| Rating
7807 American (New World) leishmaniasis (mucocutaneous, espundia):
Rate as disfigurement of the head, face, or neck (DC 7800), scars (DC's 7801, 7802, 7803, 7804, or 7805), or dermatitis (DC 7806), depending upon the predominant disability
Note: Evaluate non-cutaneous (visceral) leishmaniasis under DC 6301 (visceral leishmaniasis).
7808 Old World leishmaniasis (cutaneous, Oriental sore):
Rate as disfigurement of the head, face, or neck (DC 7800), scars (DC's, 7801, 7802, 7803, 7804, or 7805), or dermatitis (DC 7806), depending upon the predominant disabililty
Note: Evaluate non-cutaneous (visceral) leishmaniasis under DC 6301 (visceral leishmaniasis).
7809 Discoid lupus erythematosus or subacute cutaneous lupus erythematosus:
Rate as disfigurement of the head, face, or neck (DC 7800), scars (DC's 7801, 7802, 7803, 7804, or 7805), or dermatitis (DC 7806), depending upon the predominant disability. Do not combine with ratings under DC 6350

3. On page 49597, the Rate Schedule for 7811 is corrected to read as follows:

| Rating
7811 Tuberculosis luposa (lupus vulgaris), active or inactive:
Rate under §§ 4.88c or 4.89, whichever is appropriate

4. On the same page, the Rate Schedule for 7813 is corrected to read as follows:

| Rating
7813 Dermatophytosis (ringworm: of body, tinea corporis; of head, tinea capitis; of feet, tinea pedis; of beard area, tinea barbae; of nails, tinea unguium; of inguinal area (jock itch), tinea cruris):
Rate as disfigurement of the head, face, or neck (DC 7800), scars (DC's 7801, 7802, 7803, 7804, or 7805), or dermatitis (DC 7806), depending upon the predominant disability

5. On the same page, the Rate Schedule for 7818, 7819, and 7820 is corrected to read as follows:

| Rating
7818 Malignant skin neoplasms (other than malignant melanoma):
Rate as disfigurement of the head, face, or neck (DC 7800), scars (DC's 7801, 7802, 7803, 7804, or 7805), or impairment of function
Note: If a skin malignancy requires therapy that is comparable to that used for systemic malignancies, i.e., systemic chemotherapy, X-ray therapy more extensive than to the skin, or surgery more extensive than wide local excision, a 100-percent evaluation will be assigned from the date of onset of treatment, and will continue, with a mandatory VA examination six months following the completion of such antineoplastic treatment, and any change in evaluation based upon that or any subsequent examination will be subject to the provisions of § 3.105(e) of this chapter. If there has been no local recurrence or metastasis, evaluation will then be made on residuals. If treatment is confined to the skin, the provisions for a 100-percent evaluation do not apply.
7819 Benign skin neoplasms:
Rate as disfigurement of the head, face, or neck (DC 7800), scars (DC's 7801, 7802, 7803, 7804, or 7805), or impairment of function
7820 Infections of the skin not listed elsewhere (including bacterial, fungal, viral, treponemal and parasitic diseases):
Rate as disfigurement of the head, face, or neck (DC 7800), scars (DC's 7801, 7802, 7803, 7804, or 7805), or dermatitis (DC 7806), depending upon the predominant disability

6. On page 49599, the Rate Schedule for 7833 is corrected to read as follows:

| Rating
7833 Malignant melanoma:
Rate as scars (DC's 7801, 7802, 7803, 7804, or 7805), disfigurement of the head, face, or neck (DC 7800), or impairment of function (under the appropriate body system)
Note: If a skin malignancy requires therapy that is comparable to that used for systemic malignancies, i.e., systemic chemotherapy, X-ray therapy more extensive than to the skin, or surgery more extensive than wide local excision, a 100-percent evaluation will be assigned from the date of onset of treatment, and will continue, with a mandatory VA examination six months following the completion of such antineoplastic treatment, and any change in evaluation based upon that or any subsequent examination will be subject to the provisions of § 3.105(e). If there has been no local recurrence or metastasis, evaluation will then be made on residuals. If treatment is confined to the skin, the provisions for a 100-percent evaluation do not apply.

[FR Doc. C2-19331 Filed 9-13-02; 8:45 am]

BILLING CODE 1505-01-D